DEPARTMENT OF TRANSPORTATION

Federal Aviation Administration

14 CFR Part 39

[Docket No. FAA-2012-1317; Directorate Identifier 2011-NM-194-AD; Amendment 39-17687; AD 2013-24-13]

RIN 2120-AA64

Airworthiness Directives; The Boeing Company Airplanes

AGENCY: Federal Aviation Administration (FAA), DOT.

ACTION: Final rule.

SUMMARY: We are adopting a new airworthiness directive (AD) for certain The Boeing Company Model 737-100, -200, -200C, -300, -400, -500, -600, -700, -700C, -800, and -900 series airplanes. This AD was prompted by a report that the seat track attachment of body station 520 flexible joint is structurally deficient in resisting a 9g forward emergency load condition in certain seating configurations. This AD requires replacing the pivot link assembly on certain seats, modifying the existing seat track link assembly fastener on certain seats, or replacing the seat track link assemblies on certain seats. Also, for certain airplanes, this AD requires installing a new seat track link assembly or modifying the seat track link assembly. For certain other airplanes, this AD requires inspecting, changing, or repairing the seat track link assembly. We are issuing this AD to prevent seat detachment in an emergency landing, which could cause injury to occupants of the passenger compartment and affect emergency egress.

DATES: This AD is effective January 7, 2014.

The Director of the Federal Register approved the incorporation by reference of certain publications listed in this AD as of January 7, 2014.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Sarah Piccola, Aerospace Engineer, Cabin Safety and Environmental Systems Branch, ANM-150S, FAA, Seattle Aircraft Certification Office, 1601 Lind Avenue SW., Renton, WA 98057-3356; phone: 425-917-6483; fax: 425-917-6590; email: sarah.piccola@faa.gov.

SUPPLEMENTARY INFORMATION:

Discussion

We issued a notice of proposed rulemaking (NPRM) to amend 14 CFR part 39 by adding an AD that would apply to the specified products. The NPRM published in the Federal Register on January 16, 2013 (78 FR 3365). The NPRM proposed to require replacing the pivot link assembly on certain seats, and modifying or replacing the seat track link assemblies on certain seats. Also, for certain airplanes, the NPRM proposed to require installing a new seat track link assembly.

Comments

We gave the public the opportunity to participate in developing this AD. The following presents the comments received on the proposal (78 FR 3365, January 16, 2013) and the FAA's response to each comment.

Request To Incorporate Revised Service Information

Boeing concurred with the content of the NPRM (78 FR 3365, January 16, 2013), but requested that we incorporate Boeing Special Attention Service Bulletin 737-53-1260, Revision 1, dated May 23, 2013, in the AD. Boeing stated that due to manufacturing differences, some operators were unable to modify or replace the seat track link assembly using Boeing Special Attention Service Bulletin 737-53-1260, dated May 7, 2007. Boeing also requested that we allow credit for actions done in accordance with Boeing Special Attention Service Bulletin 737-53-1260, dated May 7, 2007.

We agree to incorporate Boeing Special Attention Service Bulletin 737-53-1260, Revision 1, dated May 23, 2013, in this final rule, which gives an option for operators to modify the seat track link assembly. References have been revised in paragraphs (c)(1), (g)(2), (g)(3), and (i) of this final rule accordingly. (Paragraph (i) of this final rule was referred to as paragraph (h) in the NPRM (78 FR 3365, January 16, 2013).) A new paragraph (h) has been added to this final rule to include the optional modification. We also have added paragraph (j)(2) to this final rule to provide credit for certain actions performed before the effective date of this final rule using Boeing Special Attention Service Bulletin 737-53-1260, dated May 7, 2007.

In addition, Boeing Special Attention Service Bulletin 737-53-1260, Revision 1, dated May 23, 2013, includes new Group 6 (i.e., certain airplanes previously in Group 1 and Group 5, as identified in Boeing Special Attention Service Bulletin 737-53-1260, dated May 7, 2007). For airplanes in Group 6, we added paragraph (g)(3) to this final rule to provide instructions to contact the FAA for inspection, change, and repair of the seat track link assembly because we have determined that there are unique aspects of these airplanes that require specific instructions for correcting the unsafe condition. Also, paragraph (g)(2) of this final rule has been revised to clarify the applicable groups. New paragraph (g)(4) has been added to this final rule to clarify the requirements for airplanes in Group 5. Subsequent paragraph identifiers have been revised accordingly.

Request for Credit for Certain Actions

Delta, Alaska Airlines, WestJet, and Saudi Aramco requested that we provide credit for actions performed prior to the effective date of the AD using Boeing Service Bulletin 737-53-1244, dated April 17, 2003; Revision 1, dated May 29, 2003; Revision 2, dated March 15, 2007; and Revision 3, dated December 4, 2008. The commenters stated that Boeing Service Bulletin 737-53-1244, Revision 5, dated July 27, 2011, specifies that no more work is necessary on airplanes changed in accordance with Boeing Service Bulletin 737-53-1244, dated April 17, 2003; Revision 1, dated May 29, 2003; Revision 2, dated March 15, 2007; and Revision 3, dated December 4, 2008.

We agree to provide credit for actions performed prior to the effective date of the final rule using Boeing Service Bulletin 737-53-1244, dated April 17, 2003; Revision 1, dated May 29, 2003; Revision 2, dated March 15, 2007; and Revision 3, dated December 4, 2008. We have added a new paragraph (j)(1) to this final rule accordingly. Subsequent paragraph identifiers have been revised accordingly.

Request To Correct Compliance Table 1 of Boeing Service Bulletin 737-53-1244, Revision 5, Dated July 27, 2011

Alaska Airlines requested that we correct Table 1 of paragraph 1.E., “Compliance,” of Boeing Service Bulletin 737-53-1244, Revision 5, dated July 27, 2011, which refers to Boeing Service Bulletin 737-53-1244, dated April 17, 2003; and Revision 4, dated April 6, 2011 (which was withdrawn by Boeing).

We partially agree with the request. We agree that the “Optional Actions” column of Table 1 of paragraph 1.E., “Compliance,” of Boeing Service Bulletin 737-53-1244, Revision 5, dated July 27, 2011, refers to Boeing Service Bulletin 737-53-1244, dated April 17, 2003; and Revision 4, dated April 6, 2011. However, this final rule does not require that action. This final rule requires, among other actions, installation of the new, improved pivot link within 60 months after the effective date of this AD, which is identified in the “Follow On Actions” column of Table 1 of paragraph 1.E., “Compliance,” of Boeing Service Bulletin 737-53-1244, Revision 5, dated July 27, 2011. No change has been made to this final rule in this regard.

Request for Clarification of Damage Tolerance Inspections Statement

Alaska Airlines requested that we clarify the NPRM (78 FR 3365, January 16, 2013) by adding a statement regarding the damage tolerance inspections. Alaska Airlines stated that Boeing Service Bulletin 737-53-1244, Revision 5, dated July 27, 2012, includes a damage tolerance inspection statement; however, Boeing Special Attention Service Bulletin 737-53-1260, dated May 7, 2007, does not include the statement. The commenter requested that we add a statement to the NPRM indicating that no damage tolerance inspections are required as a result of rework using either service bulletin.

We agree that the damage tolerance inspection statement was not included in Boeing Special Attention Service Bulletin 737-53-1260, dated May 7, 2007; however, the statement is included in Boeing Special Attention Service Bulletin 737-53-1260, Revision 1, dated May 23, 2013, which is cited in this final rule. No change has been made to this final rule in this regard.

Conclusion

We reviewed the relevant data, considered the comments received, and determined that air safety and the public interest require adopting this AD with the changes described previously and minor editorial changes. We have determined that these minor changes:

• Αre consistent with the intent that was proposed in the NPRM (78 FR 3365, January 16, 2013) for correcting the unsafe condition; and

• Do not add any additional burden upon the public than was already proposed in the NPRM (78 FR 3365, January 16, 2013).

We also determined that these changes will not increase the economic burden on any operator or increase the scope of this AD.

Costs of Compliance

We estimate that this AD affects 1,281 airplanes of U.S. registry.

We estimate the following costs to comply with this AD:

Estimated Costs
Action | Labor cost | Parts cost | Cost per product | U.S. Airplanes | Cost on U.S. operators
Replacement or modification | Up to 41 work-hours × $85 per hour = $3,485 | Up to $15,478 | Up to $18,963 | 1,281 | Up to $24,291,603.
Concurrent installation or modification (Groups 1, 2, 4, and 5 airplanes) | Up to 60 work-hours × $85 per hour = $5,100 | Up to $18,089 | Up to $23,189 | 214 | Up to $4,962,446.

We have received no definitive data that would enable us to provide a cost estimate for the actions required for airplanes in Group 6 identified in Boeing Special Attention Service Bulletin 737-53-1260, Revision 1, dated May 23, 2013.

Authority for this Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-24-13 The Boeing Company: Amendment 39-17687; Docket No. FAA-2012-1317; Directorate Identifier 2011-NM-194-AD.

(a) Effective Date

This AD is effective January 7, 2014.

(b) Affected ADs

None.

(c) Applicability

This AD applies to the airplanes identified in paragraphs (c)(1) and (c)(2) of this AD, certificated in any category.

(1) The Boeing Company Model 737-100, -200, -200C, -300, -400, and -500 series airplanes, as identified in Boeing Special Attention Service Bulletin 737-53-1260, Revision 1, dated May 23, 2013.

(2) The Boeing Company Model 737-600, -700, -700C, -800, and -900 series airplanes, as identified in Boeing Service Bulletin 737-53-1244, Revision 5, dated July 27, 2011.

(d) Subject

Joint Aircraft System Component (JASC)/Air Transport Association (ATA) of America Code 53, Fuselage.

(e) Unsafe Condition

This AD was prompted by a report that a Boeing study found that the seat track attachment of body station 520 flexible joint is structurally deficient in resisting a 9g forward emergency load condition in certain seating configurations. We are issuing this AD to prevent seat detachment in an emergency landing, which could cause injury to occupants of the passenger compartment and affect emergency egress.

(f) Compliance

Comply with this AD within the compliance times specified, unless already done.

(g) Repair or Replacement of Seat Track Link Assembly or Seat Track Link Assembly Fastener

Within 60 months after the effective date of this AD, do the actions specified in paragraph (g)(1), (g)(2), (g)(3), or (g)(4) of this AD, as applicable.

(1) For Model 737-600, -700, -700C, -800, and -900 series airplanes: Install new, improved pivot link assemblies, in accordance with the Accomplishment Instructions of Boeing Service Bulletin 737-53-1244, Revision 5, dated July 27, 2011.

(2) For airplanes in Groups 1, 2, 3, and 4, as identified in Boeing Special Attention Service Bulletin 737-53-1260, Revision 1, dated May 23, 2013: Replace the seat track link assembly, in accordance with the Accomplishment Instructions of Boeing Special Attention Service Bulletin 737-53-1260, Revision 1, dated May 23, 2013.

(3) For airplanes in Group 6, as identified in Boeing Special Attention Service Bulletin 737-53-1260, Revision 1, dated May 23, 2013: Inspect, change, or repair the seat track link assembly, as applicable, using a method approved in accordance with the procedures specified in paragraph (k) of this AD.

(4) For airplanes in Group 5, as identified in Boeing Special Attention Service Bulletin 737-53-1260, Revision 1, dated May 23, 2013: Modify the existing seat track link assembly fastener, in accordance with the Accomplishment Instructions of Boeing Special Attention Service Bulletin 737-53-1260, Revision 1, dated May 23, 2013.

(h) Optional Modification of Seat Track Link Assembly

In lieu of the replacement specified in paragraph (g)(2) of this AD, doing the optional modification of the seat track link assembly, in accordance with the Accomplishment Instructions of Boeing Special Attention Service Bulletin 737-53-1260, Revision 1, dated May 23, 2013, is acceptable for compliance with the requirements of paragraph (g)(2) of this AD, provided the modification is done within the compliance time specified in the introductory text of paragraph (g) of this AD.

(i) Concurrent Actions

For airplanes in Groups 1, 2, 4, and 5, as identified in Boeing Special Attention Service Bulletin 737-53-1260, Revision 1, dated May 23, 2013: Before or concurrently with the accomplishment of the actions specified in paragraph (g)(2) or (g)(3) of this AD, install a new seat track link assembly or modify the seat track link assembly, as applicable, in accordance with the Accomplishment Instructions of Boeing Service Bulletin 737-53-1120, Revision 1, dated May 13, 1993.

(j) Credit for Previous Actions

(1) This paragraph provides credit for the actions required by paragraph (g)(1) of this AD, if those actions were performed before the effective date of the AD using Boeing Service Bulletin 737-53-1244, dated April 17, 2003; Revision 1, dated May 29, 2003; Revision 2, dated March 15, 2007; or Revision 3, dated December 4, 2008; which are not incorporated by reference in this AD.

(2) This paragraph provides credit for the actions required by paragraphs (g)(2) and (g)(4) of this AD, if those actions were performed before the effective date of this AD using Boeing Special Attention Service Bulletin 737-53-1260, dated May 7, 2007, which is not incorporated by reference in this AD.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by The Boeing Commercial Airplanes Organization Designation Authorization (ODA) that has been authorized by the Manager, Seattle ACO, to make those findings. For a repair method to be approved, the repair must meet the certification basis of the airplane and 14 CFR 25.571, Amendment 45, and the approval must specifically refer to this AD.

(l) Related Information

(1) For more information about this AD, contact Sarah Piccola, Aerospace Engineer, Cabin Safety and Environmental Systems Branch, ANM-150S, FAA, Seattle Aircraft Certification Office, 1601 Lind Avenue SW., Renton, WA 98057-3356; phone: 425-917-6483; fax: 425-917-6590; email: sarah.piccola@faa.gov.

(2) Service information that is referenced in this AD but is not incorporated by reference may be obtained at the addresses identified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 737-53-1120, Revision 1, dated May 13, 1993.

(ii) Boeing Service Bulletin 737-53-1244, Revision 5, dated July 27, 2011.

(iii) Boeing Special Attention Service Bulletin 737-53-1260, Revision 1, dated May 23, 2013.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 19, 2013.
Jeffrey E. Duven,
Manager, Transport Airplane Directorate, Aircraft Certification Service.

[FR Doc. 2013-28752 Filed 12-2-13; 8:45 am]

BILLING CODE 4910-13-P